DEPARTMENT OF AGRICULTURE

Animal and Plant Health Inspection Service

[Docket No. 02-039-1]

National Poultry Improvement Plan; General Conference Committee Meeting and Biennial Conference

AGENCY: Animal and Plant Health Inspection Service, USDA.

ACTION: Notice of meeting.

SUMMARY: We are giving notice of a meeting of the General Conference Committee of the National Poultry Improvement Plan and of the Biennial Conference.

DATES: The General Conference Committee will meet on May 30, 2002, from 8:30 a.m. to noon. The Biennial Conference will meet on May 31, 2002, from 8 a.m. to 5 p.m. and on June 1, 2002, from 8 a.m. to noon.

ADDRESSES: The meeting will be held at the Holiday Inn Riverwalk, 217 N. St. Mary's Street, San Antonio, TX.

FOR FURTHER INFORMATION CONTACT: Mr. Andrew R. Rhorer, Senior Coordinator, National Poultry Improvement Plan, VS, APHIS, 1498 Klondike Road, Suite 200, Conyers, GA 30094-1231; (770) 922-3496.

SUPPLEMENTARY INFORMATION: The General Conference Committee (the Committee) of the National Poultry Improvement Plan (NPIP), representing cooperating State agencies and poultry industry members, serves an essential function by acting as liaison between the poultry industry and the Department in matters pertaining to poultry health. In addition, this Committee assists the Department in planning, organizing, and conducting the NPIP Biennial Conference.

Topics for discussion at the upcoming meetings include:

1. Minimum State standards for emergency poultry disease control.

2. Testing recommendations for Mycoplasma gallisepticum and M. synoviae when dealing with spike males.

3. Establishment of a “U.S. Salmonella Typhimurium DT 104 Clean” program for egg-type chickens.

4. Establishment of a “U.S. Avian Influenza Clean” program for turkeys.

5. Establishment of a “U.S. Avian Influenza Clean” program for exhibition poultry and game birds.

6. Establishment of a model State program for poultry disease prevention; and

7. Establishment of a “U.S. Salmonella Enteritidis Clean State” classification for egg-type chickens.

The meetings will be open to the public. The sessions held on May 31 and June 1, 2002, will include delegates to the NPIP Biennial Conference, representing State officials and poultry industry personnel from the 48 cooperating States. However, due to time constraints, the public will not be allowed to participate in the discussions during either of the meetings. Written statements on meeting topics may be filed with the Committee before or after the meetings by sending them to the person listed under FOR FURTHER INFORMATION CONTACT. Written statements may also be filed at the meetings. Please refer to Docket No. 02-039-1 when submitting your statements.

This notice of meeting is given pursuant to section 10 of the Federal Advisory Committee Act.

Done in Washington, DC, this 26th day of April, 2002.
W. Ron DeHaven,
Acting Administrator, Animal and Plant Health Inspection Service.

[FR Doc. 02-10885 Filed 5-1-02; 8:45 am]

BILLING CODE 3410-34-P